DEPARTMENT OF THE INTERIOR

Bureau of Indian Affairs

[245A2100DD/AAKC001030/A0A501010.999900]

Advisory Board of Exceptional Children

AGENCY: Bureau of Indian Affairs, Interior.

ACTION: Notice of Meeting.

SUMMARY: The Bureau of Indian Education (BIE) is announcing that the Advisory Board for Exceptional Children will hold a two-day in-person and online meeting. The purpose of the meeting is to meet the mandates of the Individuals with Disabilities Education Act of 2004 (IDEA) for Indian children with disabilities. Due to the COVID-19 pandemic and for the safety of all individuals, an online meeting option is provided for those who cannot attend in-person.

DATES: The BIE Advisory Board meeting will be held Thursday, January 18, 2024, from 8:30 a.m. to 4:30 p.m., Mountain Standard Time (MST) and Friday, January 19, 2024, from 8:30 a.m. to 4:30 p.m., Mountain Standard Time (MST).

ADDRESSES:

• Meeting: All Advisory Board activities and meetings will be conducted in-person and online. The onsite meeting location will be at the Sheraton Albuquerque Uptown Hotel located at 2600 Louisiana Blvd. NE, Albuquerque, NM 87110. See the SUPPLEMENTARY INFORMATION section of this notice for information on how to join the meeting.

• Comments: Public comments can be emailed to the DFO at Jennifer.davis@bie.edu; or faxed to (602) 265-0293 Attention: Jennifer Davis, DFO; or mailed or hand delivered to the Bureau of Indian Education, Attention: Jennifer Davis, DFO, 2600 N Central Ave., 12th floor, Suite 250, Phoenix, AZ 85004.

FOR FURTHER INFORMATION CONTACT: Jennifer Davis, Designated Federal Officer, Bureau of Indian Education, 2600 N Central Ave., 12th floor, Suite 250, Phoenix, AZ 85004, Jennifer.Davis@bie.edu, or mobile phone (202) 860-7845.

SUPPLEMENTARY INFORMATION: In accordance with the Federal Advisory Committee Act (5 U.S.C. 10), the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for the January 18, 2024, and January 19, 2024, meeting. The reports concern special education topics.

• The BIE's Division of Performance and Accountability will provide an update on the BIE FFY2022 State Performance Plan/Annual Performance Report (SPP/APR), and the BIE Special Education Policy & Procedures Handbook.

• The Advisory Board will dialogue with the BIE Director to discuss progress regarding the recommendations within the previous annual reports (FFY 2020, FFY 2021, FFY 2022 and FFY 2023); BIE plans for school year 2023-2024 update; and the BIE Strategic Direction Update.

• A panel discussion with a select group of Special Education Coordinators from BIE funded schools (Bureau Operated and Tribally Controlled Schools) to discuss post-secondary services, transition services, and graduation rates within their school, focusing on high school children with disabilities within the BIE education system.

• The advisory board will have multiple session to work on identifying priority topics for problems that could be creating barriers for children with disabilities within the BIE school system; lesson learned, determine improvements, recommendations for future projects or meetings, and discuss next steps.

• The Consortia of Administrators for Native American Rehabilitation (CANAR), Lanor Curole, President of CANAR will discuss services coordinated with the state vocational rehabilitation programs, and the number of students with disabilities being referred to state vocational rehabilitation program services.

• Four Public Commenting Sessions will be provided during both meeting days.

○ On Thursday, January 18, 2024, two sessions (15 minutes each) will be provided, 12:15 to 12:30 p.m. MST and 2 to 2:15 p.m. MST. Public comments can be provided via webinar or telephone conference call. Please use the online access codes as listed below.

○ On Friday, January 19, 2024, two sessions (15 minutes each) will be provided, 10 to 10:15 a.m. MST and 11:30 to 11:45 a.m. MST. Public comments can be provided during the meeting or telephone conference call. Please register for each meeting day to obtain the online meeting access codes as listed below.

○ Public comments can also be emailed to the DFO at Jennifer.Davis@bie.edu; or faxed to (602) 265-0293 Attention: Jennifer Davis, DFO; or mailed or hand delivered to the Bureau of Indian Education, Attention: Jennifer Davis, DFO, 2600 N Central Ave. 12th floor, Suite 250, Phoenix, Arizona 85004.

Online Meeting Access

To attend the January 18-19, 2024, advisory board meeting please register using this link: https://www.zoomgov.com/meeting/register/vJIsdOuvrD8sEycmoRpjrKbOvtzFCapwAmw. Attendees register once and can attend one or both meeting events. After registering, you will receive a confirmation email containing information about joining the meeting.

Accessibility Request

Please make requests in advance for sign language interpreter services, assistive listening devices, or other reasonable accommodations. Please contact the person listed in the section titled FOR FURTHER INFORMATION CONTACT at least seven (7) business days prior to the meeting to give the Department of the Interior sufficient time to process your request. All reasonable accommodation requests are managed on a case-by-case basis.

Authority: 5 U.S.C. Ch. 10.

Kathryn Isom-Clause,
Deputy Assistant Secretary—Indian Affairs for Policy and Economic Development, Exercising by delegation the authority of the Assistant Secretary—Indian Affairs.

[FR Doc. 2023-28712 Filed 12-27-23; 8:45 am]

BILLING CODE 4337-15-P